COMMITTEE FOR THE IMPLEMENTATION OF TEXTILE AGREEMENTS

Extension of Period of Determination on Request for Textile and Apparel Safeguard Action on Imports from China

November 4, 2005.

AGENCY: The Committee for the Implementation of Textile Agreements (the Committee).

ACTION: Notice.

SUMMARY: The Committee is extending through December 31, 2005, the period for making a determination on whether to request consultations with China regarding imports of cotton, wool and man-made fiber socks (Category 332/432 and 642 Part).

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

Background

On July 8, 2005, the Committee received a request from the Domestic Manufacturers Committee of The Hosiery Association, the American Manufacturing Trade Action Coalition, the National Council of Textile Organizations, and the National Textile Association requesting that the Committee reapply a twelve-month limit that was established on October 29, 2004, on imports from China of cotton, wool, and man-made socks (Category 332/432 and 632 Part).

The Committee determined that this request provided the information necessary for the Committee to consider the request and solicited public comments for a period of 30 days. See Solicitation of Public Comments on Request for Textile and Apparel Safeguard Action on Imports from China, 70 FR 44565 (August 3, 2005).

The Committee's Procedures, 68 FR 27787 (May 21, 2003) state that the Committee will make a determination within 60 calendar days of the close of the public comment period as to whether the United States will request consultations with China. If the Committee is unable to make a determination within 60 calendar days, it will cause to be published a notice in the Federal Register, including the date by which it will make a determination.

The 60-day determination period for this case expired on November 1, 2005. On that date, the United States and China signed an agreement to limit imports of socks from China from November 1 through December 31, 2005. The Committee decided to extend through December 31, 2005, the period for making a determination on this case because of consultations with the Government of China on a broader agreement on textiles.

James C. Leonard III,
Chairman, Committee for the Implementation of Textile Agreements.

[FR Doc. 05-22359 Filed 11-4-05; 1:14 pm]

BILLING CODE 3510-DS-S